SMALL BUSINESS ADMINISTRATION

[Disaster Declaration #11888 and #11889]

Georgia Disaster Number GA-00028

AGENCY: U.S. Small Business Administration.

ACTION: Amendment 1.

SUMMARY: This is an amendment of the Presidential declaration of a major disaster for Public Assistance Only for the State of Georgia (FEMA-1858-DR), dated 09/26/2009.

Incident: Severe storms and flooding.

Incident Period: 09/18/2009 and continuing.

Effective Date: 09/28/2009.

Physical Loan Application Deadline Date: 11/25/2009.

Economic Injury (EIDL) Loan Application Deadline Date: 06/28/2010.

ADDRESSES: Submit completed loan applications to: U.S. Small Business Administration, Processing and Disbursement Center, 14925 Kingsport Road, Fort Worth, TX 76155.

FOR FURTHER INFORMATION CONTACT: A. Escobar, Office of Disaster Assistance, U.S. Small Business Administration, 409 3rd Street, SW., Suite 6050, Washington, DC 20416.

SUPPLEMENTARY INFORMATION: The notice of the President's major disaster declaration for Private Non-Profit organizations in the State of Georgia, dated 09/26/2009, is hereby amended to include the following areas as adversely affected by the disaster.

Primary Counties:

Cherokee, Crawford, Dekalb, Fulton, Newton.

All other information in the original declaration remains unchanged.

(Catalog of Federal Domestic Assistance Numbers 59002 and 59008)

James E. Rivera,
Acting Associate Administrator for Disaster Assistance.

[FR Doc. E9-24178 Filed 10-6-09; 8:45 am]

BILLING CODE 8025-01-P